DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held November 17-18, 2009, at the Hamilton Crowne Plaza, 14th and K Streets, NW., Washington, DC. The sessions will begin at 8 a.m. on November 17 and at 8:30 a.m. on November 18 and adjourn at 4 p.m. on both days. The meeting is open to the public.

The purpose of the Committee is to advise the Secretary of Veterans Affairs on the administration of national cemeteries, soldiers' lots and plots, the selection of new national cemetery sites, the erection of appropriate memorials, and the adequacy of Federal burial benefits.

On November 17, the Committee will receive updates on National Cemetery Administration issues. On November 18, the Committee will tour the Baltimore National Cemetery, 5501 Frederick Avenue, Baltimore, Maryland, from approximately 9:30 a.m. to 10:30 a.m., and reconvene at the hotel for a business session, including discussions of committee recommendations, future meeting sites, and potential agenda topics for upcoming meetings.

Time will be allocated for receiving public comments at 1 p.m. on November 18. Public comments will be limited to three minutes each. Individuals wishing to make oral statements before the Committee will be accommodated on a first-come, first-served basis. Individuals who speak are invited to submit 1-2 page summaries of their comments at the time of the meeting for inclusion in the official meeting record.

Members of the public may direct questions or submit written statements for review by the Committee in advance of the meeting to Mr. Michael Nacincik, Designated Federal Officer, Department of Veterans Affairs, National Cemetery Administration (41C2), 810 Vermont Avenue, NW., Washington, DC, or by e-mail at Michael.n@va.gov. In the public's communications with the Committee, the writers must identify themselves and state the organizations, associations, or persons they represent. Any member of the public wishing to attend the meeting should contact Mr. Nacincik at (202) 461-6240.

Dated: October 2, 2009.
By Direction of the Secretary.
Vivian Drake,
Acting Committee Management Officer.

[FR Doc. E9-24313 Filed 10-7-09; 8:45 am]

BILLING CODE 8320-01-P